DEPARTMENT OF TRANSPORTATION

Federal Railroad Administration

[Docket Number FRA-2016-0071]

Notice of Application for Approval of Discontinuance or Modification of a Railroad Signal System

In accordance with Part 235 of Title 49 Code of Federal Regulations (CFR) and 49 U.S.C. 20502(a), this document provides the public notice that by a document dated July 11, 2016, the Georgia and Florida Railway LLC (GFR) petitioned the Federal Railroad Administration (FRA) seeking approval for the discontinuance or modification of a signal system. FRA assigned the petition Docket Number FRA-2016-0071.

Applicant: Georgia and Florida Railway LLC, Mr. Jason Scott, Vice President Signals and Communications, 1019 Coastline Avenue, Albany, GA 31705.

GFR seeks approval of the discontinuance of the automatic interlocking at Darrow Jct., GA. The discontinuance will consist of removal of signals on the former Seaboard Coast Line Railroad (SCLRR), at Milepost (MP) 695 and MP 697.3; removal of signals from the former Georgia Northern Railroad (GNR) at MP 61.7 and MP 63.3; and removal of interlocking controls and signals at the diamond at Darrow Jct. on the Albany Subdivision.

These changes are being proposed by GFR, which operates on both of the tracks at the interlocking, due to the system being outdated. The former SCLRR line is now being used for the temporary storage of cars and the former GNR line is a through track. Gates and derails will be placed on the former SCLRR line to control movements over the diamond.

A copy of the petition, as well as any written communications concerning the petition, is available for review online at www.regulations.gov and in person at the U.S. Department of Transportation's (DOT) Docket Operations Facility, 1200 New Jersey Avenue SE., W12-140, Washington, DC 20590. The Docket Operations Facility is open between 9 a.m. and 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by September 19, 2016 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC, on July 29, 2016.
Karl Alexy
Director, Office of Safety Analysis.

[FR Doc. 2016-18386 Filed 8-2-16; 8:45 am]

BILLING CODE 4910-06-P